DEPARTMENT OF COMMERCE

Foreign-Trade Zones Board

[B-92-2013]

Foreign-Trade Zone (FTZ) 235—Lakewood, New Jersey, Notification of Proposed Production Activity, Cosmetic Essence Innovations, LLC, (Fragrance Bottling), Holmdel, New Jersey

Cosmetic Essence Innovations, LLC (CEI) submitted a notification of proposed production activity to the FTZ Board for its facility in Holmdel, New Jersey within FTZ 235. The notification conforming to the requirements of the regulations of the FTZ Board (15 CFR 400.22) was received on October 30, 2013.

CEI already has authority to bottle fragrances within Site 8 of FTZ 235. The current request would add foreign status components to the scope of authority. Pursuant to 15 CFR 400.14(b), additional FTZ authority would be limited to the specific foreign-status materials and components and specific finished products described in the submitted notification (as described below) and subsequently authorized by the FTZ Board.

Production under FTZ procedures could exempt CEI from customs duty payments on the foreign status components used in export production. On its domestic sales, CEI would be able to choose the duty rate during customs entry procedures that applies to bottles of fragrances (duty-free) for the foreign status inputs noted below and in the existing scope of authority. Customs duties also could possibly be deferred or reduced on foreign status production equipment.

The components and materials sourced from abroad include: metal collars, plastic collars and metal caps or lids (duty rate ranges from 2.5 to 5.3%).

Public comment is invited from interested parties. Submissions shall be addressed to the Board's Executive Secretary at the address below. The closing period for their receipt is December 16, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Elizabeth Whiteman at Elizabeth.Whiteman@trade.gov or (202) 482-0473.

Dated: October 10, 2013.
Andrew McGilvray,
Executive Secretary.

[FR Doc. 2013-26514 Filed 11-4-13; 8:45 am]

BILLING CODE 3510-DS-P